DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Canadian Pacific Railway

(Waiver Petition Docket Number FRA-1999-6639)

Canadian Pacific Railway (CPR) is seeking a permanent waiver of compliance with the Railroad Freight Car Safety Standards, 49 CFR 215.3(c)(3) and 215.305. Section 215.3(c)(3) excludes maintenance of way equipment from compliance with Section 215 when it is not used in revenue service and is stenciled in accordance with § 215.305 of this part. Title 49 CFR 215.305 requires that maintenance of way equipment be stenciled with the letters “MW” in clearly legible print at least 2 inches in height on each side of the car. CPR states that § 19.1 of the Canadian rules excludes maintenance of way equipment when stenciled with the letters “RSE.”

CPR and its subsidiaries, Delaware and Hudson and Soo Line, request a permanent waiver to allow CPR marked service equipment to be excluded from the requirements of Part 215.

CPR claims that this request is issued to harmonize the enforcement differences in these regulations, as contemplated by the NAFTA Trade Agreement, and they further claim that stenciling these cars to comply with FRA requirements would present an undue financial burden and impede transportation opportunities between the respective countries.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-6639) and must be submitted to the Docket Clerk, DOT Docket Management Facility, Room PL-401 (Plaza Level), 400 7th Street, S.W., Washington, D.C. 20590. Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's web site at http://dms.dot.gov.

Issued in Washington, DC on January 18, 2000.
Grady C. Cothen, Jr.,
Deputy Associate Administrator for Safety Standards and Program Development.

[FR Doc. 00-1499 Filed 1-20-00; 8:45 am]

BILLING CODE 4910-06-P